DEPARTMENT OF TRANSPORTATION

Federal Aviation Administration

14 CFR Part 39

[Docket No. 2000-SW-29-AD; Amendment 39-11894; AD 2000-18-09]

RIN 2120-AA64

Airworthiness Directives; Bell Helicopter Textron, Inc. Model 412, 412EP, and 412CF Helicopters

AGENCY: Federal Aviation Administration, DOT.

ACTION: Final rule; request for comments.

SUMMARY: This amendment adopts a new airworthiness directive (AD) for Bell Helicopter Textron, Inc. (BHTI) Model 412, 412EP, and 412CF helicopters. This AD requires inspecting the upper left-hand cap angle (cap angle) and adjacent structure for a crack and, before further flight, replacing any cracked cap angle and repairing any crack in the adjacent structure. This AD is prompted by a report of a fatigue crack in a tailboom attachment cap angle. The actions specified in this AD are intended to prevent failure of a cap angle, loss of the tailboom, and subsequent loss of control of the helicopter.

DATES: Effective September 28, 2000.

Comments for inclusion in the Rules Docket must be received on or before November 13, 2000.

ADDRESSES: Submit comments in triplicate to the Federal Aviation Administration (FAA), Office of the Regional Counsel, Southwest Region, Attention: Rules Docket No. 2000-SW-29-AD, 2601 Meacham Blvd., Room 663, Fort Worth, Texas 76137. You may also send comments electronically to the Rules Docket at the following address: 9-asw-adcomments@faa.gov.

FOR FURTHER INFORMATION CONTACT: Michael Kohner, Aviation Safety Engineer, FAA, Rotorcraft Directorate, Rotorcraft Certification Office, Fort Worth, Texas 76193-0170, telephone (817) 222-5447, fax (817) 222-5783.

SUPPLEMENTARY INFORMATION: This amendment adopts a new AD for BHTI Model 412, 412EP, and 412CF helicopters. This AD requires inspecting and replacing any cracked cap angle, part number (P/N) 212-030-191-001, and repairing any cracked adjacent structure.

This AD is prompted by a report of a fatigue crack in a tailboom attachment cap angle. This condition, if not corrected, could result in loss of the tailboom and subsequent loss of control of the helicopter.

The FAA has reviewed BHTI Alert Service Bulletin No. 412-00-100, and the temporary revision to the Maintenance Manual, BHT-412-MM, both dated March 24, 2000, which specify inspecting the cap angle and adjacent structure for a crack and contacting BHTI if a crack is found.

We have identified an unsafe condition that is likely to exist or develop on other BHTI Model 412, 412EP, and 412CF helicopters of these same type designs. This AD is being issued to prevent failure of a cap angle, loss of the tailboom, and subsequent loss of control of the helicopter. This AD requires, within 25 hours time-in-service (TIS) and thereafter at intervals not to exceed 100 hours TIS, inspecting the cap angle, P/N 212-030-191-001, for a crack. Before further flight, if a crack is found, this AD requires replacing any cracked cap angle with an airworthy cap angle and repairing any cracked adjacent structure. This AD also requires reporting any crack to the Manager, Rotorcraft Certification Office.

The short compliance time involved is required because the previously described critical unsafe condition can adversely affect the controllability or structural integrity of the helicopter. Therefore, inspecting the cap angle, P/N 212-030-191-001, for a crack is required within 25 hours TIS and this AD must be issued immediately.

Since a situation exists that requires the immediate adoption of this regulation, it is found that notice and opportunity for prior public comment hereon are impracticable, and that good cause exists for making this amendment effective in less than 30 days.

The FAA estimates that 149 helicopters will be affected by this AD, that it will take approximately ½ work hour to inspect a cap angle and approximately 15 work hours to replace and repair each part, and that the average labor rate is $60 per work hour. Required parts will cost approximately $279 per helicopter. Based on these figures, the total cost impact of the AD on U.S. operators is estimated to be $180,141 assuming all cap angles are replaced.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their mailed comments submitted in response to this rule must submit a self-addressed, stamped postcard on which the following statement is made: “Comments to Docket No. 2000-SW-29-AD.” The postcard will be date stamped and returned to the commenter.

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2000-18-09—Bell Helicopter Textron, Inc.: Amendment 39-11894. Docket No. 2000-SW-29-AD.

Applicability: Model 412, 412EP, and 412CF helicopters with upper left-hand cap angle (cap angle), part number (P/N) 212-030-191-001, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (b) of this AD. The request should include an assessment of the effect of the modification, alteration, or repair on the unsafe condition addressed by this AD; and if the unsafe condition has not been eliminated, the request should include specific proposed actions to address it.

Compliance: Required as indicated, unless accomplished previously.

To prevent failure of a cap angle, loss of the tailboom, and subsequent loss of control of the helicopter, accomplish the following:

(a) Within 25 hours time-in-service (TIS) and thereafter at intervals not to exceed 100 hours TIS, inspect the cap angle and adjacent structure for a crack in the area shown in figure 1. Use a 10-power or higher magnifying glass.

Note 2: Bell Helicopter Textron, Inc. Alert Service Bulletin 412-00-100, dated March 24, 2000, pertains to the subject of this AD.

(1) If a crack is found in the cap angle, replace it with an airworthy cap angle before further flight.

(2) Repair any crack found in the adjacent structure before further flight.

BILLING CODE 4910-13-P

(3) Report any crack found to the Manager of the Rotorcraft Certification Office within 10 days of the inspection. Reporting requirements have been approved by the Office of Management and Budget and assigned OMB control number 2120-0056.

(b) An alternative method of compliance or adjustment of the compliance time that provides an acceptable level of safety may be used if approved by the Manager, Rotorcraft Certification Office, Rotorcraft Directorate, FAA. Operators shall submit their requests through an FAA Principal Maintenance Inspector, who may concur or comment and then send it to the Manager, Rotorcraft Certification Office.

Note 3: Information concerning the existence of approved alternative methods of compliance with this AD, if any, may be obtained from the Rotorcraft Certification Office.

(c) Special flight permits may be issued in accordance with 14 CFR 21.197 and 21.199 to operate the helicopter to a location where the requirements of this AD can be accomplished.

(d) This amendment becomes effective on September 28, 2000.

Henry A. Armstrong,
Manager, Rotorcraft Directorate, Aircraft Certification Service.

[FR Doc. 00-23208 Filed 9-12-00; 8:45 am]

BILLING CODE 4910-13-P